SECURITIES AND EXCHANGE COMMISSION

Sunshine Act Meetings Notice

Notice is hereby given, pursuant to the provisions of the Government in the Sunshine Act, Public Law 94-409, that the Securities and Exchange Commission will hold the following meeting during the week of February 13, 2006:

An Open Meeting will be held on Monday, February 13, 2006 at 10 a.m. in the Auditorium, Room L-002, and a Closed Meeting will be held on Wednesday, February 15, 2006 at 10 a.m.

Commissioners, Counsel to the Commissioners, the Secretary to the Commission, and recording secretaries will attend the Closed Meeting. Certain staff members who have an interest in the matters may also be present.

The General Counsel of the Commission, or his designee, has certified that, in his opinion, one or more of the exemptions set forth in 5 U.S.C. 552b(c), (3), (4), (5), (7), (9)(B), and (10) and 17 CFR 200.402(a), (3), (4), (5), (7), 9(ii) and (10) permit consideration of the scheduled matters at the Closed Meeting.

Commissioner Glassman, as duty officer, voted to consider the items listed for the closed meeting in closed session.

The subject matter of the Open Meeting scheduled for Monday, February 13, 2006 will be:

The Commission will hear oral argument on an appeal by Eagletech Communications, Inc. (“Eagletech”) from the decision of an administrative law judge. The Division of Enforcement will argue in support of the law judge's decision. The law judge found that Eagletech had failed to file with the Commission Eagletech's mandatory quarterly reports for any period after December 31, 2001 and its mandatory annual reports for any period after March 31, 2001. The law judge found that, by failing to file its reports, Eagletech willfully violated Section 13(a) of the Securities Exchange Act of 1934 and Rules 13a-1 and 13a-13 thereunder. The law judge revoked the registration of Eagletech's securities.

Among the issues likely to be argued is whether Eagletech violated the Exchange Act and rules thereunder as found by the law judge.

The subject matter of the Closed Meeting scheduled for Wednesday, February 15, 2006 will be:

Formal orders of investigations;

Institution and settlement of injunctive actions;

Institution and settlement of administrative proceedings of an enforcement nature;

Regulatory matters regarding financial institutions; and

Report on an investigation.

At times, changes in Commission priorities require alterations in the scheduling of meeting items.

For further information and to ascertain what, if any, matters have been added, deleted or postponed, please contact: The Office of the Secretary at (202) 551-5400.

Dated: February 6, 2006.
Nancy M. Morris,
Secretary.

[FR Doc. 06-1234 Filed 2-7-06; 10:59 am]

BILLING CODE 8010-01-P